INTERNATIONAL TRADE COMMISSION

[USITC SE-10-004]

Government in the Sunshine Act Meeting Notice

Agency Holding the Meeting: United States International Trade Commission.

Time and Date: March 26, 2010 at 11 a.m.

Place: Room 101, 500 E Street, SW., Washington, DC 20436, Telephone: (202) 205-2000.

Status: Open to the public.

Matters to be Considered: 1. Agenda for future meetings: none.

2. Minutes.

3. Ratification List.

4. Inv. Nos. 731-TA-776-779 (Second Review) (Preserved Mushrooms from Chile, China, India, and Indonesia)—briefing and vote. (The Commission is currently scheduled to transmit its determinations and Commissioners' opinions to the Secretary of Commerce on or before April 9, 2010.)

5. Outstanding action jackets:

(1) Document No. GC-10-028 concerning Inv. No. 337-TA-644 (Certain Composite Wear Components and Products Containing Same).

(2) Document No. GC-10-031 concerning Inv. No. 337-TA-568 (Certain Products and Pharmaceutical Compositions Containing Recombinant Human Erythropoietin).

(3) Document No. GC-10-034 concerning Inv. No. 337-TA-668 (Certain Non-Shellfish Derived Glucosamine and Products Containing Same).

In accordance with Commission policy, subject matter listed above, not disposed of at the scheduled meeting, may be carried over to the agenda of the following meeting.

By order of the Commission:
Issued: February 19, 2010.
William R. Bishop,
Hearings and Meetings Coordinator.

[FR Doc. 2010-6304 Filed 3-18-10; 11:15 am]

BILLING CODE 7020-02-P